SECURITIES AND EXCHANGE COMMISSION

[Release No. 34-69362A; File No. 600-23]

Self-Regulatory Organizations; Fixed Income Clearing Corporation; Notice of Filing of Amended Application for Registration as a Clearing Agency; Correction

AGENCY: Securities and Exchange Commission.

ACTION: Notice; correction.

SUMMARY: The Securities and Exchange Commission published a document in the Federal Register of April 17, 2013 concerning a Notice of Filing of Amended Application for Registration as a Clearing Agency. The document contained an incorrect citation regarding the Director of the Division of Trading and Markets' delegated authority to publish notice of such an application.

FOR FURTHER INFORMATION CONTACT: Neil Lombardo, Division of Trading and Markets, Securities and Exchange Commission, 100 F Street NE., Washington, DC 20549, (202) 551-4649.

Correction

In the Federal Register of April 17, 2013, in FR Doc. 2013-08924, on page 22925, in footnote twenty-three, which appears in the second column, correct the footnote to read: “17 CFR 200.30-3(a)(16).”

Dated: April 24, 2013.
Kevin M. O'Neill,
Deputy Secretary.

[FR Doc. 2013-10032 Filed 4-26-13; 8:45 am]

BILLING CODE 8011-01-P